DEPARTMENT OF TRANSPORTATION

Federal Aviation Administration

14 CFR Part 39

[Docket No. FAA-2008-0729; Directorate Identifier 2008-NM-052-AD; Amendment 39-15700; AD 2008-22-05]

RIN 2120-AA64

Airworthiness Directives; Dassault Model Mystere-Falcon 900, Falcon 900EX, and Falcon 2000 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

This Airworthiness Directive (AD) is issued following the discovery of a potential chafing between the rheostat of the 3rd crew member control panel reading light and the air gasper flexible hose, or with the electrical wires nearby. If le[f]t uncorrected, this chafing may expose the metallic spiral armature of the flexible hose, or damage the electrical wires insulation, which could result in a short-circuit generating sustained overheating and smoke emission.

We are issuing this AD to require actions to correct the unsafe condition on these products.

DATES: This AD becomes effective December 19, 2008.

The Director of the Federal Register approved the incorporation by reference of certain publications listed in this AD as of December 19, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on July 7, 2008 (73 FR 38346). That NPRM proposed to correct an unsafe condition for the specified products. The MCAI states:

This Airworthiness Directive (AD) is issued following the discovery of a potential chafing between the rheostat of the 3rd crew member control panel reading light and the air gasper flexible hose, or with the electrical wires nearby. If le[f]t uncorrected, this chafing may expose the metallic spiral armature of the flexible hose, or damage the electrical wires insulation, which could result in a short-circuit generating sustained overheating and smoke emission.

This AD requires an inspection of the air gasper installation in the 3rd crew control panel of the LH [left-hand]and RH [right-hand]crew closet for interference and damage and applicable related corrective actions.

The corrective actions include replacing the flexible hoses and installing ROUNDIT insulation sleeving to the wires near the rheostat. You may obtain further information by examining the MCAI in the AD docket.

Comments

We gave the public the opportunity to participate in developing this AD. We considered the single comment received.

Request To Include New Service Information

Dassault recommends that the AD reflect the updated service information that was issued after the date of the MCAI. Dassault states that the most recent revisions of the service information are as follows:

• Dassault Mandatory Service Bulletin F900-360, Revision 1, dated February 15, 2008.

• Dassault Mandatory Service Bulletin F900EX-261, Revision 1, dated February 15, 2008.

• Dassault Mandatory Service Bulletin F2000-316, Revision 1, dated February 15, 2008.

We agree to change the AD to reflect the current service information. Revision 1 of the service information contains an editorial change that does not affect the procedures. Table 1 of paragraph (f) of the AD has been changed accordingly, and we have added new paragraph (g) and Table 2 to the AD to give credit for actions performed according to the original versions of the service information.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 335 products of U.S. registry. We also estimate that it will take 4 work-hours per product to comply with the basic requirements of this AD. The average labor rate is $80 per work-hour. Based on these figures, we estimate the cost of this AD to the U.S. operators to be $107,200, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

AD 2008-22-05 Dassault Aviation: Amendment 39-15700. Docket No. FAA-2008-0729; Directorate Identifier 2008-NM-052-AD.

Effective Date

(a) This airworthiness directive (AD) becomes effective December 19, 2008.

Affected ADs

(b) None.

Applicability

(c) This AD applies to Dassault Model Mystere-Falcon 900 airplanes from serial number (S/N) 1 to 200 inclusive; Model Falcon 900EX airplanes from S/N 1 to 129 inclusive; and Model Falcon 2000 airplanes from S/N 1 to 210 inclusive; when fitted with a third crew member control panel; certificated in any category.

Subject

(d) Air Transport Association (ATA) of America Code 25: Equipment/Furnishings.

Reason

(e) The mandatory continuing airworthiness information (MCAI) states:

This Airworthiness Directive (AD) is issued following the discovery of a potential chafing between the rheostat of the 3rd crew member control panel reading light and the air gasper flexible hose, or with the electrical wires nearby. If le[f]t uncorrected, this chafing may expose the metallic spiral armature of the flexible hose, or damage the electrical wires insulation, which could result in a short-circuit generating sustained overheating and smoke emission.

This AD requires an inspection of the air gasper installation in the 3rd crew control panel of the LH [left-hand]and RH [right-hand]crew closet for interference and damage and applicable related corrective actions.

The corrective actions include replacing the flexible hose and installing ROUNDIT insulation sleeving to the wires near the rheostat.

Actions and Compliance

(f) Unless already done: Within 7 months after the effective date of this AD, do a detailed inspection of the air gasper installation in the 3rd crew member control panel of the left-hand and right-hand crew closet for interference and damage, and do all applicable related corrective actions as instructed in the Accomplishment Instructions of the applicable service information listed in Table 1 of this AD. Corrective actions must be done before further flight.

Table 1—Service Information
Dassault Mandatory Service Bulletin— | Revision— | Date—
F900-360 | 1 | Feb. 15, 2008.
F900EX-261 | 1 | Feb. 15, 2008.
F2000-316 | 1 | Feb. 15, 2008.

(g) Actions done before the effective date of this AD in accordance with the service information listed in Table 2 of this AD are acceptable for compliance with the requirements of paragraph (f).

Table 2—Credit Service Information
Dassault Service Bulletin— | Date—
F900-360 | July 20, 2005.
F900EX-261 | July 20, 2005.
F2000-316 | July 27, 2005.

FAA AD Differences

Note: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI European Aviation Safety Agency (EASA) Airworthiness Directive 2008-0013, dated January 24, 2008, and the service information listed in Table 1 and Table 2 of this AD, for related information.

Material Incorporated by Reference

(j) You must use the service information specified in Table 3 of this AD to do the actions required by this AD, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606; telephone 201-440-6700; Internet http://www.dassaultfalcon.com.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 3—Material Incorporated by Reference
Dassault Mandatory Service Bulletin— | Revision— | Date—
F900-360 | 1 | Feb. 15, 2008.
F900EX-261 | 1 | Feb. 15, 2008.
F2000-316 | 1 | Feb. 15, 2008.

Issued in Renton, Washington, on October 10, 2008.
Ali Bahrami,
Manager, Transport Airplane Directorate, Aircraft Certification Service.

[FR Doc. E8-25639 Filed 11-13-08; 8:45 am]

BILLING CODE 4910-13-P